DEPARTMENT OF THE INTERIOR

National Park Service

National Register of Historic Places; Notification of Pending Nominations and Related Actions

Nominations for the following properties being considered for listing or related actions in the National Register were received by the National Park Service before September 25, 2010. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington DC 20005; or by fax, 202-371-6447. Written or faxed comments should be submitted by November 2, 2010.

Before including your address, phone number, e-mail address, or other personal identifying information in your comment, you should be aware that your entire comment—including your personal identifying information—may be made publicly available at any time. While you can ask us in your comment to withhold your personal identifying information from public review, we cannot guarantee that we will be able to do so.

Paul Loether,
National Register of Historic Places/National Historic Landmarks Program.

ARKANSAS

Jefferson County

St. Peter's Rock Missionary Baptist Church, 2911 W 12th St, Pine Bluff, 10000881

DISTRICT OF COLUMBIA

District of Columbia

Dent, James C., House, 156 Q St SW, Washington, D.C., 10000880

ILLINOIS

Cook County

River Forest Women's Club, 526 Ashland Ave, River Forest, 10000882

LOUISIANA

St. John the Baptist Haydel-Jones House, 2245 LA HWY 18, Edgard, 10000886

MISSISSIPPI

Chickasaw County

U.S. Post Office, 217 N Jackson St, Houston, 10000884

Forrest County

Meador Homestead, 6775 US Hwy 49, Hattisburg, 10000885

Lee County

Clark, R.C., House, 215 N Church St, Tupelo, 10000883

NEW JERSEY

Middlesex County

Saint Mary of Mount Virgin Roman Catholic Church, 190 Sandford St, New Brunswick, 10000877

VERMONT

Orange County

Bridge 22, Town Highway 27 (Creamery Rd), Bradford, 10000878

WISCONSIN

Washington County

St. Agnes Convent and School, 1386 Fond du Lac St, West Bend, 10000879

[FR Doc. 2010-26097 Filed 10-15-10; 8:45 am]

BILLING CODE 4312-51-P